DEPARTMENT OF AGRICULTURE

Natural Resources Conservation Service

[Docket No. NRCS-2024-0001]

Notice of Intent To Prepare an Environmental Impact Statement for the Logan River Watershed Project in Cache County, Utah

AGENCY: Natural Resources Conservation Service, USDA.

ACTION: Notice of intent (NOI) to prepare an environmental impact statement (EIS).

SUMMARY: The Natural Resources Conservation Service (NRCS) Utah State Office announces its intent to prepare a watershed plan and EIS for the Logan River Watershed Project located within the Logan River Watershed in Cache County, Utah. The proposed watershed plan will examine alternative solutions to reduce water loss and increase efficiency in the current agricultural water delivery system, provide flood control and protection, and enhance recreational facilities in portions of Logan, North Logan, and Hyde Park cities and portions of unincorporated Cache County, Utah between and to the west of the cities. NRCS is requesting comments to identify significant issues, potential alternatives, information, and analyses relevant to the proposed action from all interested individuals, Federal, State agencies, and Tribes.

DATES: We will consider comments that we receive by April 10, 2024.We will consider comments received after close of the comment period to the extent possible.

ADDRESSES: We invite you to submit comments in response to this notice. You may submit your comments through one of the methods below:

• Federal eRulemaking Portal: Go to http://www.regulations.gov and search for docket ID NRCS-2024-0001. Follow the online instructions for submitting comments; or

• Mail or Hand Delivery: Derek Hamilton, Water Resources Coordinator, USDA, NRCS, Utah State Office, 125 S State Street, #4010, Salt Lake City, Utah 84138. In your comments, specify the docket ID NRCS-2024-0001.

All comments received will be posted without change and made publicly available on www.regulations.gov.

FOR FURTHER INFORMATION CONTACT: Derek Hamilton; telephone: (801) 524-4560; email: derek.hamilton@usda.gov. Individuals who require alternative means for communication should contact the U.S. Department of Agriculture (USDA) Target Center at (202) 720-2600 (voice and text telephone (TTY)) or dial 711 for Telecommunications Relay service (both voice and text telephone users can initiate this call from any telephone).

SUPPLEMENTARY INFORMATION:

Purpose and Need

The primary purposes for the watershed plan is to improve agricultural water management in the Crockett Avenue Irrigation and Distribution, Inc. (Crockett Avenue Irrigation Company) service area. The project is essential to improve efficiency, water conservation, and the maintenance and enhancement of environmental conditions and beneficial water use in the form of instream flows and through the removal of barriers to fish passage; to provide flood control to the Cities of Logan, North Logan, and Hyde Park and portions of Cache County from flooding that occurs from large thunderstorms and rain on frozen ground events in the valley; and to enhance recreational opportunities within the project area.

This action is needed to address deficiencies in the agricultural water delivery system in the area. The aging canal system loses water to seepage and evaporation. Additionally, the primary method of irrigation to agricultural lands in the valley is flood irrigation and the potential for improving irrigation water management is limited. Improved efficiencies in the pressurization of water for secondary water systems (non-potable irrigation water for lawns and gardens) are needed to reduce strains on existing culinary water supplies for growing communities with limited water resources. Also, the irrigation infrastructure needs improvements as recent stormwater and flash floods have highlighted deficiencies in flood protection with high intensity runoff events overwhelming the existing diversion and canals. In particular, the Crocket Diversion dam is an aging piece of infrastructure originally built in 1860 and it currently poses hazards to:

• the irrigation company and city staff operating the diversion,

• area homeowners, and

• the public.

The structure also limits recreation and is a barrier to fish passage. Additionally, the Crockett Canal near Merlin Olsen Park is at risk of slope failure along the hillside.

This action will increase stormwater capacity to divert and transport excess stormwater flows from existing canals and convey to natural drainages west of Logan, Utah. The existing irrigation canals in the past have been used to deliver both irrigation water and stormwater runoff that occurs during storm events. Recent population growth has converted permeable farmland into impermeable surfaces, and these changes have increased storm water runoff. The existing canals do not have adequate flow capacity to transport the additional stormwater produced by larger storm events.

This action will also enhance recreational facilities in the area. The rapidly growing area of Logan, North Logan, and Hyde Park has a limited trail system. Enhancements are needed to provide additional access points to the terrestrial and river trail systems to provide for safe and effective access for residents and visitors to nearby recreational facilities including USDA Forest Service public lands and their existing trail systems.

NRCS will provide technical and financial assistance for the proposed project through the NRCS Watershed Protection and Flood Prevention Program, and NRCS will also design and implement a selected alternative.

Preliminary Proposed Action and Alternatives

The objective of the EIS is to formulate and evaluate alternatives for the agricultural water needs in the approximately 73,285-acre watershed-focused planning area. The EIS is expected to evaluate three alternatives: two action alternatives, and one no action alternative. The alternatives that may be considered for detailed analysis include:

• Alternative 1—No Action Alternative: Taking no action would consist of activities conducted if no Federal action or funding were provided. The 10 irrigation companies that comprise the Crockett Avenue Irrigation Company would continue to divert water from the Logan River at the Crockett Diversion dam 1.3 miles below First Dam. To ensure operator safety at the Crockett Diversion dam, the Crockett Avenue Irrigation Company would necessarily rebuild the aging Crockett Diversion dam along the Logan River. To reduce the risk of slope failure along the hillside of the Crockett Canal near Merlin Olsen Park, they would also line 2,500 feet of the Crockett Canal if the No Action Alternative is selected. Water would continue to be distributed through the existing canal systems, and a pressurized pipe irrigation system and overflow structures would not be constructed. A recreational trail would not be built. The existing structures, besides the Crockett Diversion dam and a portion of the Crockett Canal, would continue to operate in their current condition and would not meet the purpose and need to provide flood control, improve agricultural water management, or enhance recreational opportunities. Existing river conditions would continue, and no instream flows would be provided, especially during the summer, when flows are critical for maintaining water quality and a functional aquatic ecosystem. No Federal action or funding would be associated with the No Action Alternative.

• Alternative 2—Proposed Action—First Dam Alternative: The proposed action is to change the diversion location of the Crockett Avenue Irrigation Company's water rights upstream from the existing Crockett Diversion dam to a new diversion at First Dam and would add an additional point of diversion downstream near the western end of the Logan River near N 3200 W. These two diversions would be used to pressurize a newly constructed pressurized irrigation system within the Crockett Avenue Irrigation Company's service area in Logan, North Logan, Hyde Park, and Cache County that would reduce canal water losses and pumping requirements, as well as allow secondary water connections to residents in the service area. The existing, unused Logan City lagoons would be converted to a secondary water storage reservoir, and three pump stations would be constructed, including a pump station to supply water to the storage reservoir from the diversion location along the western end of the Logan River and one to supply water from the reservoir to the irrigation distribution system. The third pump station would pump additional water rights held by a canal company into the storage reservoir. A hydropower turbine would be installed at the storage reservoir and would allow for power generation to offset pumping costs during reservoir filling. This proposed action would remove the Crockett Diversion dam and replace it with a series of steps and pools to reduce safety hazards experienced by system operators, remove several homes and a school from the floodplain, benefit water quality, facilitate fish and recreational passage, and improve river aesthetics. The Providence Pioneer Irrigation Company's Providence Pioneer diversion dam would also be removed, and their associated diversion would be supplied through the newly constructed pressurized irrigation system. This proposed action would secure and manage instream flows while recognizing existing water rights by maintaining an agreed upon amount of flow in the Logan River to the downstream diversion point during the irrigation season to improve river attainment of state water quality standards. Water would also be provided to the Little Logan Canal, including Merlin Olsen Park, the Cache County Fairgrounds, and Willow Park, during the irrigation season. To control floodwaters that enter the Logan, Northern, Hyde Park, Logan North Field, and Logan Northwest Field Canals along the east side of Cache Valley between Logan City and Hyde Park City, a mixed piped and open channel overflow system would be constructed. The system would extend from approximately 1400 North and 900 East to 1800 North and 2400 West. Additionally, approximately 3,500 feet of a non-motorized trail would be constructed along the Crockett Canal's right-of-way corridor and Canyon Road from 200 East to 600 East to connect an existing trail network to the nearby Forest Service-administered lands.

• Alternative 3—Proposed Action—Crockett Diversion Alternative: The proposed action would continue to supply a portion of the Crockett Avenue Irrigation Company's water rights by diverting water at the current Crockett Diversion dam on the Logan River but would add an additional point of diversion for the remainder of the water rights downstream at a new location along the western end of the Logan River near N 3200 W, as in Alternative 1. The Crockett Diversion dam would be reconstructed, and a pump station would be constructed near the Crockett Diversion. The new diversion dam would address structural deficiencies and feature a lower crest elevation that would reduce safety hazards experienced by system operators, remove several homes and a school from the floodplain, benefit water quality, facilitate fish and recreational passage, and improve river aesthetics. This proposed action would also secure and manage instream flows by maintaining an agreed upon amount of flow in the Logan River to the downstream diversion point during the irrigation season and providing flow to the Little Logan Canal, including Merlin Olsen Park, the Cache County Fairgrounds, and Willow Park, during the irrigation season, as in Alternative 1. Besides the diversion location changes and associated actions, the remainder of irrigation improvements (that is, constructing pressurized irrigation distribution system; converting lagoons to secondary water storage reservoir; constructing pump stations; removing Providence Pioneer dam; etc.) and all the flood control and recreation improvements would be the same as in Alternative 1.

Summary of Expected Impacts

An NRCS evaluation of this federally assisted action indicates that the proposed alternatives may have local, regional, or national effects on the environment. Potential effects include wetland and channel alteration, disturbances to wildlife, and temporary disturbances to riparian areas due to the piping of the irrigation system. Long-term beneficial effects would occur with the pressurized piping system and the additional recreational opportunities with the new trail.

The proposed alternatives would also reduce flooding by providing flood protection and flood damage reduction within the service area and to downstream areas from runoff, erosion, and sediment deposition, as well as improve agricultural water management and public safety by piping and pressurizing the irrigation system. It would eliminate a source of open water in residential areas that could pose safety risks. It would also provide additional recreational opportunities for public use by constructing the trail connecting Logan City to nearby Forest Service-administered lands.

Anticipated Permits and Authorizations

The following permits and other authorizations are anticipated to be required:

• Federal Emergency Management Agency Floodplain Development permit. Implementation of the proposed action would require coordination with the local floodplain administrator and may require a Floodplain Development Permit to ensure all development and engineering requirements for construction within the Special Flood Hazard Areas are implemented.

• Clean Water Act (CWA) and National Pollutant Discharge Elimination System (NPDES). The project would require water quality certification under section 401 of the CWA, permitting under section 402 of the NPDES, and section 404 of the CWA for potential wetland impacts.

• Encroachment Permit. The project would require coordination and permitting with Utah Department of Transportation for temporary construction work within State and Federal roadway rights-of-way.

• Stream Alteration Permit. The project would require coordination and permits with the Utah Division of Water Rights for the proposed canal improvements.

• National Historic Preservation Act (NHPA) Section 106. Consultation with Tribal Nations and interested parties would be conducted as required by the NHPA.

• Local Encroachment. Consultation and potential encroachment permits would be required with Logan City, North Logan City, Hyde Park, and Cache County for all construction work within the local roadway rights-of-way.

Schedule of Decision-Making Process

A Draft EIS (DEIS) will be prepared and circulated for review and comment by agencies, Tribes, consulting parties, and the public for at least 45 days as required by 40 CFR 1503.1, 1502.20, 1506.11, and 1502.17, and 7 CFR 650.13. The DEIS is anticipated to be published in the Federal Register, approximately 21 months after publication of this NOI. A Final EIS is anticipated to be published within 3 months of completion of the public comment period for the DEIS.

NRCS will decide whether to implement one of the action alternatives as evaluated in the EIS. A Record of Decision will be completed after the required 30-day waiting period and will be publicly available. The responsible Federal official and decision maker for NRCS is the Utah State Conservationist.

Public Scoping Process

Federal, State, Tribal, local agencies and representatives, and the public were invited to take part in this watershed plan scoping period through which coordination, sought input on issues of economic, environmental, cultural, and social importance in the watershed.

The Logan River Watershed Project began in 2020 when key stakeholders identified resource concerns within the Logan River Watershed. A virtual public scoping meeting was held on January 28, 2021, and an adjacent property owner scoping meeting was held on March 4, 2021, to gather input on concerns and interests and to inform alternative development and prioritization for the watershed. The public submitted 781 comments, of which the majority emphasized the importance of protecting existing water rights and maintaining water flows that preserve the aesthetics of Logan River and property values and assure aquatic recreation and water quality for wildlife habitat. Scoping meeting presentation materials are available on the NRCS website, along with project background information at https://www.nrcs.usda.gov/logan-river-watershed-project.

Based on funding limitations, the NRCS determined an EIS was necessary, and is seeking further public comment to help determine the range of actions, alternatives, and impacts to be evaluated and included in the EIS. NRCS will include the comments received from the previous scoping efforts into the EIS analysis.

Identification of Potential Alternatives, Information, and Analyses

NRCS invites agencies, Tribes, consulting parties, and individuals that have special expertise, legal jurisdiction, or interest in the Logan River project to provide written comments concerning the scope of the analysis and identification of potential alternatives, information, and analyses relevant to the Proposed Action.

NRCS will coordinate the scoping process to correspond with any required NHPA processes, as allowed in 36 CFR 800.2(d)(3) and 800.8 (54 U.S.C. 306108). The information about historic and cultural resources within the area potentially affected by the proposed Logan River project will assist NRCS in identifying and evaluating impacts to such resources in the context of both the National Environmental Policy Act (NEPA) and NHPA.

NRCS will consult with Native American tribes on a government-to-government basis in accordance with 36 CFR 800.2 and 800.3, Executive Order 13175, and other policies. Tribal concerns, including impacts on Indian trust assets and potential impacts to cultural resources and historic properties, will be given due consideration.

Authorities

This document is published pursuant to the NEPA regulations regarding publication of a NOI to issue an EIS (40 CFR 1501.9(d)). Watershed planning is authorized under the Watershed Protection and Flood Prevention Act of 1954, as amended, and the Flood Control Act of 1944.

Federal Assistance Programs

The title and number of the Federal Assistance Program as found in the Assistance Listing ¹ to which this document applies is 10.904, Watershed Protection and Flood Prevention.

¹ See https://sam.gov/content/assistance-listings.

Executive Order 12372

Executive Order 12372, “Intergovernmental Review of Federal Programs,” requires consultation with State and local officials that would be directly affected by proposed Federal financial assistance. The objectives of the Executive Order are to foster an intergovernmental partnership and a strengthened federalism, by relying on State and local processes for State and local government coordination and review of proposed Federal financial assistance and direct Federal development. This Logan River project is subject to the provisions of Executive Order 12372, which requires intergovernmental consultation with State and local officials.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Individuals who require alternative means of communication for program information (for example, Braille, large print, audiotape, American Sign Language, etc.) should contact the responsible Agency or USDA TARGET Center at (202) 720-2600 (voice and text telephone) or dial 711 for Telecommunications Relay Service (both voice and text telephone users can initiate this call from any phone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

Emily Fife,
Utah State Conservationist, Natural Resources Conservation Service.

[FR Doc. 2024-05091 Filed 3-8-24; 8:45 am]

BILLING CODE 3410-16-P